DEPARTMENT OF COMMERCE

International Trade Administration

Notice of Scope Rulings

AGENCY: Enforcement and Compliance, International Trade Administration, Department of Commerce.

DATES: Applicable November 21, 2022.

SUMMARY: The U.S. Department of Commerce (Commerce) hereby publishes a list of scope rulings and circumvention determinations made during the period July 1, 2022, through September 30, 2022. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on August 25, 2022.² This current notice covers all scope rulings and scope ruling/circumvention determination combinations made by Enforcement and Compliance between July 1, 2022, and September 30, 2022.

¹ See 19 CFR 351.225(o).

² See Notice of Scope Rulings, 87 FR 52359 (August 25, 2022).

Scope Rulings Made July 1, 2022 Through September 30, 2022

People's Republic of China (China)

A-570-135 and C-570-136: Certain Chassis and Subassemblies Thereof From China

Requestor: Trans Texas Tire LLC. Wheel caps are not covered by the scope of the antidumping duty (AD) order on certain chassis and subassemblies thereof from China because these components are not used for further assembly with a finished or unfinished chassis and are utilized solely for marine trailers, utility trailers, and recreational vehicles; July 6, 2022.

A-570-106 and C-570-107: Wooden Cabinets and Vanities and Components Thereof From China

Requestor: AYC LLC. Chloe Styling Station is not covered by the scope of these orders because this product is a freestanding cabinet that is not for permanent installation. The scope of the orders covers wooden cabinets and vanities that are for permanent installation. Therefore, Chloe Styling Station is outside the scope of the orders. Further, Sanden Shampoo Cabinet (AYC Styling Station) is covered by the scope of the orders because this product requires permanent installation by attachment of plumbing and, thus, falls within the scope as a cabinet for permanent installation; August 1, 2022.

A-570-922: Raw Flexible Magnets From China

Requestor: Fasteners for Retail, Inc. dba Siffron. Siffron's plastic shelf dividers are outside the scope of the AD order on raw flexible magnets from China because the raw flexible magnet component of the plastic shelf dividers is rendered inflexible by attachment to a component plastic blade, and the order only pertains to flexible magnets. Therefore, Siffron's plastic shelf divider is not within the scope of the order; August 9, 2022.

A-570-090 and C-570-091: Certain Steel Wheels 12 to 16.5 Inches in Diameter From China

Requestor: Wheel Source, Inc. (Wheel Source). Passenger vehicle wheel model numbers X-76801 and 28860W, which are 16 inches in diameter, imported by Wheel Source are not covered by the scope of the AD and countervailing duty (CVD) orders on certain steel wheels 12 to 16.5 inches in diameter (steel wheels) from China because they have different hub bore sizes, offsets, and load ratings that make them unsuitable for use on trailer or towable equipment; August 26, 2022.

A-570-899: Certain Artist Canvas From China

Requestor: RV Print Factory LLC (RV Print). Certain polyester fabrics coated with ethylene-vinyl acetate (EVACPET) imported by RV Print are covered by the scope of the AD order on artist canvas from China because the fabrics are primed/coated with EVACPET to convert the fabric into a canvas and enter the United States as rolls that are converted/printed, varnished, framed, and shipped as artwork prints and custom photos; August 29, 2022.

Preliminary Scope Ruling/Circumvention Determination Combinations Made July 1, 2022 Through September 30, 2022

China

A-570-051 and C-570-052: Certain Hardwood Plywood Products From China

Requestor: Coalition for Fair Trade in Hardwood Plywood. Commerce preliminarily found that hardwood plywood products assembled in Vietnam using certain inputs/components sourced from China and exported to the United States are covered by the scope of the AD and CVD rders on hardwood plywood products from China.

Additionally, Commerce preliminarily determined that hardwood plywood products assembled in Vietnam using certain inputs/components sourced from China and exported to the United States were not initially covered by the scope but were preliminarily found to be circumventing the orders; July 22, 2022.

A-570-042 and C-570-043: Stainless Steel Sheet and Strip (SSSS) From China

Self-initiated Scope/Circumvention Inquiry concerning SSSS from China, further processed in and exported from Vietnam. Preliminarily found that SSSS produced in China that meets all specifications of in-scope merchandise but is exported from Vietnam, is covered by the scope of the AD and CVD orders on SSSS from China because the scope includes language covering SSSS that is further processed in a third country (e.g., Vietnam).

Additionally, preliminarily found that SSSS that meets all specifications of in-scope merchandise but is produced in Vietnam using certain non-subject stainless steel flat-rolled inputs of Chinese-origin were not initially covered by the scope, but were preliminarily found to be circumventing the AD and CVD orders on SSSS from China because the processing performed in Vietnam is minor or insignificant based on the totality of the factors under section 781(b)(2) of the Tariff Act of 1930, as amended; September 9, 2022.

Notification to Interested Parties

Interested parties are invited to comment on the completeness of this list of completed scope inquiries and scope/circumvention inquiry combinations made during the period July 1, 2022 through September 30, 2022. Any comments should be submitted to the Deputy Assistant Secretary for AD/CVD Operations, Enforcement and Compliance, International Trade Administration, via email to CommerceCLU@trade.gov.

This notice is published in accordance with 19 CFR 351.225(o).

Dated: November 16, 2022.
James Maeder,
Deputy Assistant Secretary for Antidumping and Countervailing Duty Operations.

[FR Doc. 2022-25300 Filed 11-18-22; 8:45 am]

BILLING CODE 3510-DS-P